DEPARTMENT OF HEALTH AND HUMAN SERVICES

Food and Drug Administration

[Docket No. 2004F-0546]

Alltech, Inc.; Withdrawal of Food Additive Petition

AGENCY: Food and Drug Administration, HHS.

ACTION: Notice.

SUMMARY: The Food and Drug Administration (FDA) is announcing the withdrawal, without prejudice to a future filing, of a food additive petition (FAP 2253) proposing that the food additive regulations be amended to provide for the safe use of polyurethane polymer coating in ruminant feed.

FOR FURTHER INFORMATION CONTACT: Isabel Pocurull, Center for Veterinary Medicine (HFV-226), Food and Drug Administration, 7519 Standish Pl., Rockville, MD 20855, 240-453-6853, e-mail: isabel.pocurull@fda.hhs.gov.

SUPPLEMENTARY INFORMATION: In a notice published in the Federal Register of January 13, 2005 (70 FR 2415), FDA announced that a food additive petition (FAP 2253) had been filed by Alltech, Inc., 3031 Catnip Hill Pike, Nicholasville, KY 40356. The petition proposed to amend the food additive regulations in part 573 (21 CFR part 573) to provide for the safe use of polyurethane polymer coating in ruminant feed. Alltech, Inc., has now withdrawn the petition without prejudice to a future filing (21 CFR 571.7).

Dated: June 1, 2006.
Stephen F. Sundlof,
Director, Center for Veterinary Medicine.

[FR Doc. E6-8982 Filed 6-8-06; 8:45 am]

BILLING CODE 4160-01-S